DEPARTMENT OF COMMERCE

International Trade Administration

[C-560-829]

Uncoated Paper From Indonesia: Final Results of Countervailing Duty Administrative Review; 2018

AGENCY: Enforcement and Compliance, International Trade Administration, Department of Commerce.

SUMMARY: The Department of Commerce (Commerce) determines that countervailable subsidies are being provided to producers and exporters of uncoated paper from Indonesia during the period of review (POR) January 1 through December 31, 2018.

DATES: Applicable January 29, 2020.

FOR FURTHER INFORMATION CONTACT: William Miller, AD/CVD Operations, Office II, Enforcement and Compliance, International Trade Administration, U.S. Department of Commerce, 1401 Constitution Avenue NW, Washington, DC 20230; telephone: (202) 482-3906.

SUPPLEMENTARY INFORMATION:

Background

The review covers PT Anugerah Kertas Utama, PT Riau Andalan Kertas, APRIL Fine Paper Macao Offshore Limited, PT Asia Pacific Rayon, PT Sateri Viscose International, A P Fine Paper Trading (Hong Kong) Limited, and APRIL International Enterprise Pte. Ltd. (collectively, APRIL).¹

¹ See Certain Uncoated Paper from Indonesia: Preliminary Results of Countervailing Duty Administrative Review; 2018, 84 FR 60378 (November 8, 2019) (Preliminary Results), and accompanying Preliminary Decision Memorandum (PDM) at 1.

On November 8, 2019, Commerce published the preliminary results of this administrative review in the Federal Register.² Although we invited interested parties to comment on the Preliminary Results,³ we received no comments. Accordingly, no decision memorandum accompanies this Federal Register notice.⁴

² See Preliminary Results, 84 FR at 60378.

³ Id. at 60379.

⁴ For further details of the issues addressed in this proceeding, see Preliminary Results and PDM.

Scope of the Order

The merchandise under review includes uncoated paper in sheet form; weighing at least 40 grams per square meter but not more than 150 grams per square meter; that either is a white paper with a GE brightness level ⁵ of 85 or higher or is a colored paper; whether or not surface-decorated, printed (except as described below), embossed, perforated, or punched; irrespective of the smoothness of the surface; and irrespective of dimensions (Certain Uncoated Paper). Certain Uncoated Paper includes (a) uncoated free sheet paper that meets this scope definition; (b) uncoated ground wood paper produced from bleached chemi-thermo-mechanical pulp (BCTMP) that meets this scope definition; and (c) any other uncoated paper that meets this scope definition regardless of the type of pulp used to produce the paper.

⁵ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Specifically excluded from the scope are: (1) Paper printed with final content of printed text or graphics and (2) lined paper products, typically school supplies, composed of paper that incorporates straight horizontal and/or vertical lines that would make the paper unsuitable for copying or printing purposes. For purposes of this scope definition, paper shall be considered “printed with final content” where at least one side of the sheet has printed text and/or graphics that cover at least five percent of the surface area of the entire sheet.

On September 1, 2017, Commerce determined that that imports of uncoated paper with a GE brightness of 83 +/− 1% (83 Bright paper), otherwise meeting the description of in-scope merchandise, constitute merchandise “altered in form or appearance in minor respects” from in-scope merchandise that are subject to this order.⁶

⁶ See Certain Uncoated Paper from Australia, Brazil, the People's Republic of China, Indonesia, and Portugal: Affirmative Final Determination of Circumvention of the Antidumping and Countervailing Duty Orders, 82 FR 41610 (September 1, 2017).

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the order is dispositive.

Final Results of the Review

We determine the following net countervailable subsidy rate for the period January 1, 2018 through December 31, 2018:

Company | Net subsidy rate ad valorem (percent)
PT Anugerah Kertas Utama, PT Riau Andalan Kertas, APRIL Fine Paper Macao Offshore Limited, PT Asia Pacific Rayon, PT Sateri Viscose International, A P Fine Paper Trading (Hong Kong) Limited, and APRIL International Enterprise Pte. Ltd. (collectively, APRIL) | 104.00

Assessment Rates

Consistent with section 751(a)(1) of the Tariff Act of 1930, as amended (the Act), and 19 CFR 351.212(b)(2), Commerce will determine, and U.S. Customs and Border Protection (CBP) shall assess, countervailing duties on all appropriate entries. Commerce intends to issue appropriate assessment instructions to CBP 15 days after publication of the final results of this review.

Cash Deposit Requirements

Pursuant to section 751(a)(2)(C) of the Act, Commerce also intends to instruct CBP to collect cash deposits of estimated countervailing duties in the amount indicated above for APRIL on shipments of subject merchandise entered, or withdrawn from warehouse, for consumption on or after the date of publication of the final results of this administrative review. For all non-reviewed firms, we will instruct CBP to collect cash deposits of estimated countervailing duties at the most recent company-specific or all-others rate applicable to the company, as appropriate. These cash deposit requirements, when imposed, shall remain in effect until further notice.

Notification Regarding Administrative Protective Order (APO)

This notice serves as the only reminder to parties subject to APO of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

This notice is issued and published in accordance with sections 751(a)(1) and 777(i)(1) of the Act.

Dated: January 22, 2020.
Jeffrey I. Kessler,
Assistant Secretary for Enforcement and Compliance.

[FR Doc. 2020-01561 Filed 1-28-20; 8:45 am]

BILLING CODE 3510-DS-P